DEPARTMENT OF TRANSPORTATION

Federal Railroad Administration

Environmental Impact Statement: Rail Corridor—Richmond, VA to Hampton Roads (via Williamsburg to Newport News, VA and via Petersburg to Norfolk, VA)

AGENCY: Federal Railroad Administration (FRA), Department of Transportation (DOT).

ACTION: Notice of intent to prepare an environmental impact statement.

SUMMARY: The FRA is issuing this notice to advise the public that FRA and the Virginia Department of Rail and Public Transportation (VDRPT) intend to prepare an Environmental Impact Statement (EIS) for Richmond to Hampton Roads High Speed Rail Corridor. The EIS will evaluate potential alternatives for higher-speed rail service in both the Richmond-Petersburg-South Hampton Roads Corridor and the existing Amtrak corridor from Richmond to Williamsburg to Newport News, providing rail connections to the Southeast, Northeast and Mid-Atlantic regions as part of the Southeast High Speed Rail (SEHSR) Corridor.

DATES: Written comments on the scope of alternatives and impacts considered should be sent to the Virginia Department of Rail and Public Transportation by May 15, 2004, at the address below.

FOR FURTHER INFORMATION CONTACT: Mr. Christopher Bonanti, Environmental Program Manager, Federal Railroad Administration (FRA), 400 Seventh Street, SW., MS 20, Washington, DC 20590, telephone (202) 493-6383; or Mr. Alan Tobias, Manager of Passenger Rail Programs, Virginia Department of Rail and Public Transportation, P.O. Box 590, Richmond, VA, 23218-0590, telephone (804) 786-1063.

SUPPLEMENTARY INFORMATION: The FRA, in cooperation with the VDRPT, will prepare a Tier I Environmental Impact Statement (EIS) for the Richmond to Hampton Roads High Speed Rail Corridor. The project will evaluate potential alternatives and potential environmental impacts for higher-speed rail service within the project study area. The project study area generally follows the Richmond-Petersburg-South Hampton Roads Corridor and the existing Amtrak corridor from Richmond to Williamsburg to Newport News. This rail service would serve as an extension of the Southeast High Speed Rail (SEHSR) Corridor, providing rail connections to the Southeast, Northeast and Mid-Atlantic regions.

Multiple service and alignment alternatives exist within the project study area to connect the Hampton Roads region to the Main Street Station in Richmond, Virginia, which is the study terminus for intercity rail service connections to the Southeast, Northeast and Mid-Atlantic regions. FRA and the VDRPT will address project issues and alternatives in environmental documentation prepared as part of the Alternatives Analysis and Tier I EIS. This study will also address the greater travel shed in which this corridor will operate. Issues regarding schedule, operational and capacity constraints, and ridership will be examined.

The environmental process will have four basic goals: (1) Establish the purpose and need; (2) develop alternatives within the study corridor; (3) conduct a detailed evaluation of environmental impacts for the alternatives; and (4) select a locally preferred alternative (LPA).

The EIS will evaluate the following passenger rail alternatives: A no-build alternative, consisting of already planned improvements to the corridor, and build alternatives, consisting of a full range of passenger rail alternatives. The type, location, and need for ancillary facilities (e.g. railroad switching, signaling and maintenance buildings, etc.) will also be considered for each alternative. Scoping will be accomplished through correspondence with interested persons, organizations, and Federal, State and local agencies, and through public meetings.

In accordance with the National Environmental Policy Act (NEPA), a public scoping process will be initiated to identify corridor needs and alternatives. The scoping process will provide the basis for the evaluation of alternatives as part of the planning study, and the selection of a LPA and implementation program. The planning study will consider a variety of passenger rail options in the corridor based on input received during the scoping process. In addition to prudent alternatives developed as part of this study and those identified in previous planning exercises, feasible alternatives suggested during the scoping process will be considered.

Scoping and Comments: Scoping activities are being initiated at the outset of the planning studies, in advance of the EIS, to maximize the opportunity for public involvement in the consideration of alternatives and in reaching decisions about the transportation investments that will be advanced into the EIS phase of project development.

FRA and VDRPT encourage broad participation in the planning studies and EIS process during scoping and subsequent review of the resulting environmental documents. Comments and suggestions are invited from all interested agencies and the public at large to insure the full range of issues related to the proposed action and all reasonable alternatives are addressed and all significant issues are identified. Public agencies with jurisdiction are requested to advise the FRA and VDRPT of the applicable environmental review requirements of each agency, and the scope and content of the environmental information that is germane to the agency's statutory responsibilities in connection with the proposed improvements. An agency scoping meeting has been scheduled for March 9, 2004, 1 p.m., at the following location: VDRPT, Central Conference Room, 1313 East Main Street, Suite 300, Richmond, Virginia.

Letters describing the proposed action and soliciting comments will be sent to appropriate Federal, State, and local agencies in Virginia. An interactive public involvement/information program will support the process. The program will involve newsletters, a telephone hotline and Web site, informational workshops, small group meetings, and other methods to solicit and incorporate public input throughout the planning process. The public scoping process runs concurrent with agency scoping and will commence with a public meeting in Richmond on March 9, 2004. Additional public scoping meetings will be held in Petersburg on March 10, Chesapeake on March 11, and Williamsburg on March 24. Notices for the public scoping meetings will be sent to individuals in the planning and EIS study areas and will be posted on official Web sites, and advertised in local communities.

Comments and questions concerning the proposed action should be directed to VDRPT or to the FRA at the addresses provided above. Additional information can be obtained by visiting the project Web site at www.rich2hrrail.info or calling the project hotline 1-877-RICH2HR (742-4247).

Issued in Washington, DC on February 17, 2004.
Mark E. Yachmetz,
Associate Administrator for Railroad Development.

[FR Doc. 04-3757 Filed 2-20-04; 8:45 am]

BILLING CODE 4910-06-P